DEPARTMENT OF ENERGY

Ultra-Deepwater Advisory Committee

AGENCY: Office of Fossil Energy, Department of Energy.

ACTION: Notice of open meeting.

SUMMARY: This notice announces a meeting of the Ultra-Deepwater Advisory Committee. The Federal Advisory Committee Act (Pub. L. 92-463, 86 Stat. 770) requires that public notice of this meeting be announced in the Federal Register.

DATES: Wednesday, September 26, 2012, 8:00 a.m.-5:00 p.m. (CST).

ADDRESSES: Hyatt North Houston, 425 North Sam Houston Parkway East, Houston, TX 77060.

FOR FURTHER INFORMATION CONTACT: Elena Melchert, U.S. Department of Energy, Office of Oil and Natural Gas, Washington, DC 20585. Phone: (202) 586-5600.

SUPPLEMENTARY INFORMATION: Purpose of the Committee: The purpose of the Ultra-Deepwater Advisory Committee is to provide advice to the Secretary of Energy on development and implementation of programs related to ultra-deepwater architecture; and to provide comments and recommendations and priorities for the Department of Energy Annual Plan per requirements of the Energy Policy Act of 2005, Title IX, Subtitle J, Section 999D.

Tentative Agenda

September 26, 2012

7:30 a.m.-8:00 a.m. Registration.

8:00 a.m.-12:00 p.m. Call to Order, Welcome, Introductions, Opening Remarks, Overview of the Oil and Gas Ultra-Deepwater Research Portfolio.

1:00 p.m.-4:45 p.m. Overview of Draft 2013 Annual Plan.

4:45 p.m.-5:00 p.m. Public Comments, if any.

5:00 p.m. Adjourn.

Public Participation: The meeting is open to the public. The Designated Federal Officer and the Chairman of the Committee will lead the meeting for the orderly conduct of business. If you would like to file a written statement with the Committee, you may do so either before or after the meeting. If you would like to make oral statements regarding any of the items on the agenda, you should contact Elena Melchert at the telephone number listed above. You must make your request for an oral statement at least three business days prior to the meeting, and reasonable provisions will be made to include all who wish to speak. Public comment will follow the three minute rule.

Minutes: The minutes of this meeting will be available for public review and copying within 60 days at the following Web site: www.fossil.energy.gov/programs/oilgas/advisorycommittees/UltraDeepwater.html.

Issued at Washington, DC, on August 27, 2012.
LaTanya R. Butler,
Acting Deputy Committee Management Officer.

[FR Doc. 2012-21547 Filed 8-30-12; 8:45 am]

BILLING CODE 6450-01-P